DEPARTMENT OF TRANSPORTATION

Federal Aviation Administration

14 CFR Part 71

[Docket No. FAA-2012-0456; Airspace Docket No. 12-AEA-9]

Amendment of Class D and Class E Airspace; Lakehurst, NJ; Correction

AGENCY: Federal Aviation Administration (FAA), DOT.

ACTION: Final rule: technical amendment, correction.

SUMMARY: This action corrects the geographic coordinates in the airspace description of a final rule, published in the Federal Register on July 10, 2012, amending controlled airspace at Lakehurst Naval Support Activity/Maxfield Field (Joint Base McGuire-Dix-Lakehurst).

DATES: Effective date: 0901 UTC. September 20, 2012. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On July 10, 2012, the FAA published a final rule, in the Federal Register changing the name of the airport associated with the Class D and E airspace at Lakehurst, NJ, to Lakehurst Naval Support Activity/Maxfield Field (Joint Base McGuire-Dix-Lakehurst) (77 FR 40488). After publication, the FAA found that the geographic coordinates of the airport and Lakehurst (Navy) NDB navigation aid need to be adjusted to be in concert with the FAAs aeronautical database. This action makes the administrative adjustment that does not affect the altitude, boundaries, or operating requirements of the airspace. Therefore, notice and public procedures under 5 U.S.C. 553(b) are unnecessary.

The Class D and E airspace designations are published in Paragraphs 5000 and 6004 respectively of FAA order 7400.9V, dated August 9, 2011, and effective September 15, 2011, which is incorporated by reference in 14 CFR 71.1. The Class D and E airspace designations listed in this document will be published subsequently in the Order.

Correction to Final Rule

Accordingly, pursuant to the authority delegated to me, the geographic coordinates listed in the airspace designation of the Class D and Class E airspace areas for Lakehurst Naval Support Activity/Maxfield Field (Joint Base McGuire-Dix-Lakehurst), and the Lakehurst (Navy) NDB, Lakehurst, NJ, as published in the Federal Register of July 10, 2012, (77 FR 40488), FR Doc. 2012-16674, are corrected as follows:

* * * * *

AEA NJ D Lakehurst, NJ [Corrected]

Lakehurst Naval Support Activity/Maxfield Field, NJ (Joint Base McGuire-Dix- Lakehurst)

On page 40488, column 3, line 27, remove, “lat. 40°02′00″ N., long. 74°21′13″ W”, and insert “lat. 40°02′09″ N., long. 74°21′05″ W”.

* * * * *

AEA NJ E4 Lakehurst, NJ [Corrected]

Lakehurst Naval Support Activity/Maxfield Field, NJ (Joint Base McGuire-Dix-Lakehurst)

On page 40488, column 3, line 45, remove “lat. 40°02′00″ N., long. 74°21′13″ W”, and insert “lat. 40°02′09″ N., long. 74°21′05″ W”, and on page 40488, column 3, line 47, under Lakehurst (Navy) NDB, remove “lat. 40°02′41″ N., long. 74°20′09″ W” and insert “lat. 40°02′42″ N., long. 74°20′08″ W”

Issued in College Park, Georgia, on August 24, 2012.
Barry A. Knight,
Manager, Operations Support Group, Eastern Service Center, Air Traffic Organization.

[FR Doc. 2012-21830 Filed 9-5-12; 8:45 am]

BILLING CODE 4910-13-P